SECURITIES AND EXCHANGE COMMISSION

[Release No. 34-89823; File No. SR-NASDAQ-2020-017]

Self-Regulatory Organizations; the Nasdaq Stock Market LLC; Notice of Designation of a Longer Period for Commission Action on a Proposed Rule Change To Amend Nasdaq Rule 5704

September 10, 2020.

On July 23, 2020, The Nasdaq Stock Market LLC (“Nasdaq”) filed with the Securities and Exchange Commission (“Commission”), pursuant to Section 19(b)(1) of the Securities Exchange Act of 1934 (“Act”) ¹ and Rule 19b-4 thereunder,² a proposed rule change to amend Nasdaq Rule 5704 to: (1) Remove the requirement that a series of Exchange Traded Fund Shares have at least 50 beneficial holders following twelve months after listing on Nasdaq; and (2) replace the requirement that Nasdaq must establish a minimum number of shares of a series of Exchange Traded Fund Shares to be outstanding at the time of initial listing, with the requirement that a series of Exchange Traded Fund Shares must have a minimum number of shares outstanding to facilitate the formation of at least one creation unit on an initial and continued listing basis. The proposed rule change was published for comment in the Federal Register on August 7, 2020.³ The Commission has received no comments on the proposed rule change.

¹ 15 U.S.C. 78s(b)(1).

² 17 CFR 240.19b-4.

³ See Securities Exchange Act Release No. 89464 (August 4, 2020), 85 FR 48012.

Section 19(b)(2) of the Act ⁴ provides that within 45 days of the publication of notice of the filing of a proposed rule change, or within such longer period up to 90 days as the Commission may designate if it finds such longer period to be appropriate and publishes its reasons for so finding, or as to which the self-regulatory organization consents, the Commission shall either approve the proposed rule change, disapprove the proposed rule change, or institute proceedings to determine whether the proposed rule change should be disapproved. The 45th day after publication of the notice for this proposed rule change is September 21, 2020. The Commission is extending this 45-day time period.

⁴ 15 U.S.C. 78s(b)(2).

The Commission finds it appropriate to designate a longer period within which to take action on the proposed rule change so that it has sufficient time to consider the proposed rule change. Accordingly, the Commission, pursuant to Section 19(b)(2) of the Act,⁵ designates November 5, 2020 as the date by which the Commission shall either approve or disapprove, or institute proceedings to determine whether to disapprove, the proposed rule change (File No. SR-NASDAQ-2020-017).

⁵ Id.

For the Commission, by the Division of Trading and Markets, pursuant to delegated authority.⁶
⁶ 17 CFR 200.30-3(a)(31).
J. Matthew DeLesDernier,
Assistant Secretary.

[FR Doc. 2020-20361 Filed 9-15-20; 8:45 am]

BILLING CODE 8011-01-P